DEPARTMENT OF ENERGY

Federal Energy Regulatory Commission

Combined Notice of Filings

Take notice that the Commission has received the following Natural Gas Pipeline Rate and Refund Report filings:

Filings Instituting Proceedings

Docket Numbers: RP11-2581-000.

Applicants: CenterPoint Energy Gas Transmission Company, LLC.

Description: CenterPoint Energy Gas Transmission Company, LLC submits tariff filing per 154.403(d)(2): CEGT LLC—Fuel Tracker Filing, to be effective 11/1/2011.

Filed Date: 09/23/2011.

Accession Number: 20110923-5051

Comment Date: 5 p.m. Eastern Time on Wednesday, October 05, 2011.

Docket Numbers: RP11-2582-000.

Applicants: Viking Gas Transmission Company

Description: Viking Gas Transmission Company submits tariff filing per 154.204: Semi Annual FLRP—Fall 2011 to be effective 11/1/2011.

Filed Date: 09/23/2011.

Accession Number: 20110923-5052.

Comment Date: 5 p.m. Eastern Time on Wednesday, October 05, 2011.

Docket Numbers: RP11-2583-000.

Applicants: Guardian Pipeline, LLC.

Description: Guardian Pipeline, LLC submits tariff filing per 154.204: 2011 Transporter's Use Gas Annual Adjustment to be effective 11/1/2011.

Filed Date: 09/23/2011.

Accession Number: 20110923-5053

Comment Date: 5 p.m. Eastern Time on Wednesday, October 05, 2011.

Docket Numbers: RP11-2584-000.

Applicants: Texas Gas Transmission, LLC.

Description: Texas Gas Transmission, LLC submits tariff filing per 154.204: Storage Update Filing to be effective 11/1/2011.

Filed Date: 09/23/2011.

Accession Number: 20110923-5054.

Comment Date: 5 p.m. Eastern Time on Wednesday, October 05, 2011.

Docket Numbers: RP11-2585-000.

Applicants: Venice Gathering System, LLC.

Description: Venice Gathering System, LLC submits tariff filing per 154.204: Section 31, Off-System Capacity to be effective 10/24/2011.

Filed Date: 09/23/2011.

Accession Number: 20110923-5084.

Comment Date: 5 p.m. Eastern Time on Wednesday, October 05, 2011.

Docket Numbers: RP11-2586-000.

Applicants: Columbia Gas Transmission, LLC.

Description: Columbia Gas Transmission, LLC submits tariff filing per 154.204: Negotiated Rate Service Agreement—NJR to be effective 9/24/2011.

Filed Date: 09/23/2011.

Accession Number: 20110923-5097

Comment Date: 5 p.m. Eastern Time on Wednesday, October 05, 2011.

Docket Numbers: RP11-2587-000.

Applicants: USG Pipeline Company.

Description: USG Pipeline Company submits tariff filing per 154.204: Negotiated Rate filing with CDNAG to be effective 10/24/2011.

Filed Date: 09/23/2011.

Accession Number: 20110923-5141.

Comment Date: 5 p.m. Eastern Time on Wednesday, October 05, 2011.

Docket Numbers: RP11-2589-000.

Applicants: Gulf Crossing Pipeline Company LLC.

Description: Gulf Crossing Pipeline Company LLC submits tariff filing per 154.204: Create PAL Service to be effective 11/1/2011.

Filed Date: 09/26/2011.

Accession Number: 20110926-5066.

Comment Date: 5 p.m. Eastern Time on Tuesday, October 11, 2011.

Docket Numbers: RP11-2590-000.

Applicants: Dominion Cove Point LNG, LP.

Description: Dominion Cove Point LNG, LP submits tariff filing per 154.203: DCP—2011 Revenue Crediting Report to be effective N/A.

Filed Date: 09/26/2011.

Accession Number: 20110926-5079.

Comment Date: 5 p.m. Eastern Time on Tuesday, October 11, 2011.

Any person desiring to intervene or protest in any of the above proceedings must file in accordance with Rules 211 and 214 of the Commission's Regulations (18 CFR § 385.211 and § 385.214) on or before 5 p.m. Eastern time on the specified comment date. Protests may be considered, but intervention is necessary to become a party to the proceeding.

Filings in Existing Proceedings

Docket Numbers: RP11-2486-001.

Applicants: Algonquin Gas Transmission, LLC.

Description: Algonquin Gas Transmission, LLC submits tariff filing per 154.205(b): Amendment to ConEd 2011-09-01 Releases to be effective 9/1/2011.

Filed Date: 09/26/2011.

Accession Number: 20110926-5089.

Comment Date: 5 p.m. Eastern Time on Tuesday, October 11, 2011.

Any person desiring to protest in any the above proceedings must file in accordance with Rule 211 of the Commission's Regulations (18 CFR 385.211) on or before 5 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: September 27, 2011.
Nathaniel J. Davis, Sr.,
Deputy Secretary.

[FR Doc. 2011-25440 Filed 10-3-11; 8:45 am]

BILLING CODE 6717-01-P